DEPARTMENT OF THE INTERIOR

Bureau of Reclamation

Agency Information Collection Activities Under OMB Review; Comment Request

AGENCY: Bureau of Reclamation, Interior.

ACTION: Notice and Request for Comments.

SUMMARY: In accordance with the Paperwork Reduction Act of 1995 (44 U.S.C. 3501 et seq.), this notice announces the following Information Collection Request (ICR) has been forwarded to the Office of Management and Budget (OMB) for review and approval: Recreation Survey, New Melones Lake Project, Sonora, CA. The ICR describes the nature of the information collection and its expected cost and hour burden.

DATES: OMB has up to 60 days to approve or disapprove this information collection, but may respond after 30 days; therefore, public comment must be received on or before April 11, 2007.

ADDRESSES: Please send your comments to the Desk Officer for the Department of the Interior at the Office of Management and Budget, Office of Information and Regulatory Affairs, via facsimile to (202) 395-6566 or e-mail to OIRA_DOCKET@omb.eop.gov. A copy of your comments should also be directed to the Bureau of Reclamation, Attention: E. Vasquez, CC 419, 7794 Folsom Dam Road, Folsom, CA 95630, or directed via e-mail to evasquez@mp.usbr.gov. Please reference OMB No. 1006-NEW in your comments.

FOR FURTHER INFORMATION CONTACT: For further information or a copy of the proposed forms contact Ms. Elizabeth Vasquez at the above address, or at (916) 989-7192.

SUPPLEMENTARY INFORMATION: Title: Recreation Survey, New Melones Lake Project, Sonora, CA.

Abstract: The purpose of the on-site recreation survey is to characterize existing users, characterize their use of the New Melones Project, assess their satisfaction with their experience and the facilities, and find out what other opportunities or facilities they would like to see developed at the New Melones Lake Project. The purpose of the regional telephone survey is to characterize regional population, their outdoor recreation use, the demand for various types of outdoor recreation activities, trends in outdoor recreation use, and the extent to which the regional population uses New Melones Lake Project, Sonora, CA. The on-site survey and the regional telephone survey shall describe the recreational preferences of visitors to the New Melones Lake Project and provide guidance on what recreational planning objectives should be included in the New Melones Lake Project RMP/EIS.

OMB No. 1006-NEW

Frequency: One-time voluntary survey.

Respondents for On-site Survey: Persons who recreate at New Melones Lake Project.

Respondents for Telephone Survey: Residents of Sonora and Tuolumne counties.

Estimated Total Number of Respondents: 1,750.

Estimated Number of Responses per Respondent: 1.

Estimated Total Annual Burden on Respondents: 438 hours.

Estimate of Burden for Each Form:

Form | Burden estimate per form (in minutes) | Number of respondents | Annual burden on respondents (in hours)
On-site survey | 15 | 1,250 | 313
Telephone survey | 15 | 500 | 125
Total |  | 1,750 | 438

Comments

A notice allowing the public a 60-day comment period was published in the Federal Register on May 2, 2006 (71 FR 25857, May 2, 2006). No comments were received in response to the 60-day comment period. The Public now has a second chance to comment.

Comments are Invited on

(a) Whether the proposed collection of information is necessary for the proper performance of our functions, including whether the information will have practical use;

(b) the accuracy of our burden estimate for the proposed collection of information, including the validity of the methodology and assumptions used;

(c) ways to enhance the quality, usefulness, and clarity of the information to be collected; and

(d) ways to minimize the burden of the collection of information on respondents.

An agency may not conduct or sponsor, and a person is not required to respond to, a collection of information unless it displays a currently valid OMB control number. Reclamation will display a valid OMB control number on the survey forms.

Before including your address, phone number, e-mail address, or other personal identifying information in your comment, you should be aware that your entire comment—including your personal identifying information—may be made publicly available at any time. While you can ask us in your comment to withhold your personal identifying information from public review, we cannot guarantee that we will be able to do so.

Michael R. Finnegan,
Area Manager, Central California Area Office, Mid-Pacific Region.

[FR Doc. E7-4406 Filed 3-9-07; 8:45 am]

BILLING CODE 4310-MN-P